DEPARTMENT OF THE INTERIOR

Bureau of Land Management

[NV-050-5853-ES; N-80468; 7-08807]

Notice of Realty Action Recreation and Public Purposes Act Classification of Public Lands in Clark County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 20 acres of public land in Clark County, Nevada. The Calvary Chapel Green Valley Church proposes to use the land for a church, school, and day care center.

DATES: Interested parties may submit comments regarding the proposed lease/conveyance or classification of the lands until November 19, 2007.

ADDRESSES: Send written comments to the Field Manager, BLM Las Vegas Field Office, 4701 N. Torrey Pines Drive, Las Vegas, Nevada 89130.

FOR FURTHER INFORMATION CONTACT: Philip Rhinehart, Supervisory Realty Specialist, at (702) 515-5182.

SUPPLEMENTARY INFORMATION: In accordance with Section 7 of the Taylor Grazing Act, (43 U.S.C. 315f), and Executive Order No. 6910, the following described public land in Clark County, Nevada, has been examined and found suitable for classification for lease and subsequent conveyance under the provisions of the R&PP Act, as amended, (43 U.S.C. 869 et seq.):

Mount Diablo Meridian, Nevada

T. 23 S., R. 61 E.,

Sec. 11, N½NE¼NW¼SE¼, SW¼NE¼NW¼SE¼, SE¼NW¼NW¼SE¼, NE¼SW¼NW¼SE¼, and NW¼SE¼NW¼SE¼. Containing 15 acres, more or less in Clark County, Nevada.

The following described public land was previously classified for R&PP use by Federal Register notice published May 4, 2006.

Mount Diablo Meridian, Nevada

T. 23 S., R. 61 E.,

Sec. 11, SE¼NE¼NW¼SE¼, and NE¼SE¼NW¼SE¼. Containing 5 acres, more or less in Clark County, Nevada.

In accordance with the R&PP Act, the Calvary Chapel Green Valley Church filed an application for the above-described 20 acres of public land to be developed as a church (multipurpose building), school, day care center and related facilities. The multipurpose building will include a worship center, offices, classrooms, nursery, kitchen, restrooms, utility/storage rooms, and a lobby. The related facilities include sidewalks, landscaped areas, paved parking areas, youth athletic fields, and off site improvements. Additional detailed information pertaining to this application, plan of development, and site plans is in case file N-80468 located in the BLM Las Vegas Field Office at the above address.

Churches are a common applicant under the “public purposes” provision of the R&PP Act. The Calvary Chapel Green Valley Church is an Internal Revenue Service registered non-profit organization and is, therefore, a qualified applicant under the R&PP Act.

The land is not needed for any Federal purpose. The lease/conveyance is consistent with the Las Vegas Resource Management Plan dated October 5, 1998, and would be in the public interest. The lease/patent, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe. The lease/patent will also be subject to:

1. An easement in favor of Clark County for roads, public utilities, and flood control purposes; and

2. All valid existing rights documented on the official public land records at the time of lease/patent issuance.

On October 4, 2007, the land described above will be segregated from all other forms of appropriation under the public land laws, including the general mining laws, except for lease/conveyance under the R&PP Act, leasing under the mineral leasing laws, and disposals under the mineral material disposal laws.

Interested parties may submit comments involving the suitability of the land for a church, school, day care center and related facilities. Comments on the classification are restricted to whether the land is physically suited for the proposal, whether the use will maximize the future use or uses of the land, whether the use is consistent with local planning and zoning, or if the use is consistent with State and Federal programs.

Interested parties may submit comments regarding the specific use proposed in the application and plan of development, whether the BLM followed proper administrative procedures in reaching the decision to lease/convey under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Las Vegas Field Office, will be considered properly filed. Electronic mail, facsimile or telephone comments will not be considered properly filed.

Any adverse comments will be reviewed by the State Director. In the absence of any adverse comments, the classification of the land described in this notice will become effective December 3, 2007. The lands will not be available for lease/conveyance until after the classification becomes effective.

Authority: 43 CFR part 2740.

Mark R. Chatterton,
Assistant Field Manager, Non-Renewable Resources Las Vegas, NV.

[FR Doc. E7-19584 Filed 10-3-07; 8:45 am]

BILLING CODE 4310-HC-P